DEPARTMENT OF TRANSPORTATION

Surface Transportation Board

[STB Finance Docket No. 34513]

Union Pacific Railroad Company—Trackage Rights Exemption—The Burlington Northern and Santa Fe Railway Company

The Burlington Northern and Santa Fe Railway Company (BNSF) has agreed to grant overhead trackage rights to Union Pacific Railroad Company (UP), between BNSF milepost 141.73 near Rockview, MO, and BNSF milepost 186.14 near Lilbourn, MO, a distance of approximately 44.41 miles.

BNSF indicates that the transaction was to be consummated on November 8, 2004.

The purpose of the trackage rights is to allow UP to use the BNSF Rockview-Lilbourn line for traffic originating from or destined to industries on UP's line between Lilbourn and New Madrid, instead of its existing route between Malden Junction, MO, and Lilbourn, which will enable UP to avoid rebuilding the latter route.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34513, must be filed with the Surface Transportation Board, 1925 K Street, NW., Washington, DC 20423-0001. In addition, a copy of each pleading must be served on Robert T. Opal, 1400 Douglas Street, Stop 1580, Omaha, NE 68179.

Board decisions and notices are available on our Web site at http://www.stb.dot.gov.

Decided: November 9, 2004.
By the Board, David M. Konschnik, Director, Office of Proceedings.
Vernon A. Williams,
Secretary.

[FR Doc. 04-25481 Filed 11-18-04; 8:45 am]

BILLING CODE 4915-01-P